DEPARTMENT OF STATE

[Public Notice 8881]

Shipping Coordinating Committee; Notice of Committee Meeting

The Shipping Coordinating Committee (SHC) will conduct an open meeting at 9:00 a.m. on Thursday, November 6, 2014, in Coast Guard Headquarters, Room 05L18-01, Washington, DC. The primary purpose of the meeting is to prepare for the one-hundred and thirteenth Session of the IMO Council Session (C 113) to be held at the IMO Headquarters, United Kingdom, from December 1-5, 2014.

The agenda items to be discussed include:

• Adoption of the agenda

• Report of the Secretary-General on credentials

• Strategy, planning and reform

• Resource management:

○ Human resource matters, including amendments to the Staff Regulations and Staff Rules

○ Recommendations of the External Auditor: Implementation action plan

○ Report on arrears of contributions and of advances to the Working Capital Fund and on the implementation of Article 61 of the IMO Convention

○ Budget considerations for 2012 and 2013

○ Development of a long-term plan for the future financial sustainability of the Organization

• Voluntary IMO Member State Audit Scheme

• Consideration of the report of the Marine Environment Protection Committee

• Report on the 34th Consultative Meeting of Contracting Parties to the London Convention 1972 and the 7th Meeting of Contracting Parties to the 1996 Protocol to the London Convention

• Report on the 2012 Conference for the adoption of an agreement on the implementation of the 1993 Protocol relating to the 1977 Torremolinos Convention on the Safety of Fishing Vessels

• IMO International Maritime Law Institute: Review of the IMLI Statute

• Protection of vital shipping lanes

• Periodic review of administrative requirements in mandatory IMO instruments

• External relations:

○ Relations with the United Nations and the specialized agencies

○ Joint Inspection Unit

○ Relations with intergovernmental organizations

○ Relations with nongovernmental organizations

○ Day of the Seafarer

○ Report on World Maritime Day 2014

○ IMO Award for Exceptional Bravery at Sea

• Report on the status of the Convention and membership of the Organization

• Report on the status of conventions and other multilateral instruments in respect of which the Organization performs functions

• Contract of the Secretary-General

• Substantive items for inclusion in the provisional agendas for the next two sessions of the Council

• Place, date and duration of the next session of the Council

• Supplementary agenda items, if any

Members of the public may attend this meeting up to the seating capacity of the room. Access to the meeting requires that all attendees respond to the meeting coordinator not later than October 28, 2014, 7 working days prior to the meeting.

The meeting coordinator, LCDR Matthew Frazee, may be contacted by email at matthew.p.frazee@uscg.mil or by phone at (202) 372-1376. Responses made after October 28, 2014 might result in not being able to participate in the meeting. Please note that due to security considerations, two valid, government issued photo identifications must be presented to gain entrance to the Coast Guard Headquarters building. The Coast Guard Headquarters building is accessible by public transportation or taxi. Additional information regarding this and other IMO SHC public meetings may be found at: www.uscg.mil/imo.

In case of severe weather or other emergency in the Washington, DC area, attendees should check with the Office of Personnel Management at http://www.opm.gov or (202) 606-1900 for the operating status of federal agencies. If federal agencies are closed, this meeting will not be rescheduled, but the Shipping Coordinating Committee will publish a separate Federal Register notice to announce an electronic docket to receive public comments.

Dated: September 19, 2014.
Marc Zlomek,
Executive Secretary, Shipping Coordinating Committee, Department of State.

[FR Doc. 2014-23007 Filed 9-25-14; 8:45 am]

BILLING CODE 4710-09-P